DEPARTMENT OF HEALTH AND HUMAN SERVICES

Food and Drug Administration

[Docket No. FDA-2011-N-0362]

Agency Information Collection Activities; Submission for Office of Management and Budget Review; Current Good Manufacturing Practice Regulations for Finished Pharmaceuticals

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by May 7, 2018.

ADDRESSES: To ensure that comments on the information collection are received, OMB recommends that written comments be faxed to the Office of Information and Regulatory Affairs, OMB, Attn: FDA Desk Officer, Fax: 202-395-7285, or emailed to oira_submission@omb.eop.gov. All comments should be identified with the OMB control number 0910-0139. Also include the FDA docket number found in brackets in the heading of this document.

FOR FURTHER INFORMATION CONTACT: Domini Bean, Office of Operations, Food and Drug Administration, Three White Flint North, 10A-12M, 11601 Landsdown St., North Bethesda, MD 20852, 301-796-5733, PRAStaff@fda.hhs.gov.

SUPPLEMENTARY INFORMATION: In compliance with 44 U.S.C. 3507, FDA has submitted the following proposed collection of information to OMB for review and clearance.

Current Good Manufacturing Practice Regulations for Finished Pharmaceuticals (21 CFR parts 210 and 211)

OMB Control Number 0910-0139—Extension

This information collection supports FDA regulations. Specifically, under section 501(a)(2)(B) of the Federal Food, Drug, and Cosmetic Act (21 U.S.C. 351(a)(2)(B)), a drug is adulterated if the methods used in or the facilities or controls used for its manufacture, processing, packing, or holding do not conform to or are not operated or administered in conformity with Current Good Manufacturing Practice (CGMP). The CGMP regulations help ensure drug products meet the statutory requirements for safety and have their purported or represented identity, strength, quality, and purity characteristics. The information collection requirements in the CGMP regulations provide FDA with the necessary information to perform its duty to protect public health and safety. CGMP requirements establish accountability for manufacturing and processing drug products, provide for meaningful FDA inspections, and enable manufacturers to improve the quality of drug products over time. The CGMP recordkeeping requirements also serve preventive and remedial purposes and provide crucial information if it is necessary to recall a drug product.

The general requirements for recordkeeping under part 211 (21 CFR part 211) are set forth in § 211.180. Any production, control, or distribution record associated with a batch and required to be maintained in compliance with part 211 must be retained for at least 1 year after the expiration date of the batch and, for certain over-the-counter (OTC) drugs, 3 years after distribution of the batch (§ 211.180(a)). Records for all components, drug product containers, closures, and labeling are required to be maintained for at least 1 year after the expiration date and 3 years for certain OTC products (§ 211.180(b)).

All part 211 records must be readily available for authorized inspections during the retention period (§ 211.180(c)), and such records may be retained either as original records or as true copies (§ 211.180(d)). Additionally, § 11.2(a) (21 CFR 11.2(a)) provides that “for records required to be maintained but not submitted to the Agency, persons may use electronic records in lieu of paper records or electronic signatures in lieu of traditional signatures, in whole or in part, provided that the requirements of this part are met.” To the extent this electronic option is used, the burden of maintaining paper records should be substantially reduced, as should any review of such records.

To facilitate improvements and corrective actions, records must be maintained so data can be used to evaluate the quality standards of each drug product on at least an annual basis and determine whether to change any drug product specifications or manufacturing or control procedures (§ 211.180(e)). Written procedures for these evaluations are to be established and include provisions for a review of a representative number of batches and, where applicable, records associated with the batch; provisions for a review of complaints, recalls, returned or salvaged drug products; and investigations conducted under § 211.192 for each drug product.

The specific information collection provisions are as follows:

• Section 211.34—Consultants advising on the manufacture, processing, packing, or holding of drug products must have sufficient education, training, and experience to advise on the subject for which they are retained. Records must be maintained stating the name, address, and qualifications of any consultants and the type of service they provide.

• Section 211.67(c)—Records must be kept of maintenance, cleaning, sanitizing, and inspection as specified in §§ 211.180 and 211.182.

• Section 211.68—Appropriate controls must be exercised over computer or related systems to assure that changes in master production and control records or other records are instituted only by authorized personnel.

• Section 211.68(a)—Records must be maintained of calibration checks, inspections, and computer or related system programs for automatic, mechanical, and electronic equipment.

• Section 211.68(b)—All appropriate controls must be exercised over all computers or related systems and control data systems to assure that changes in master production and control records or other records are instituted only by authorized persons.

• Section 211.72—Filters for liquid filtration used in the manufacture, processing, or packing of injectable drug products intended for human use must not release fibers into such products.

• Section 211.80(d)—Each container or grouping of containers for components or drug product containers or closures must be identified with a distinctive code for each lot in each shipment received. This code must be used in recording the disposition of each lot. Each lot must be appropriately identified as to its status.

• Section 211.100(b)—Written production and process control procedures must be followed in the execution of the various production and process control functions and must be documented at the time of performance. Any deviation from the written procedures must be recorded and justified.

• Section 211.105(b)—Major equipment must be identified by a distinctive identification number or code that must be recorded in the batch production record to show the specific equipment used in the manufacture of each batch of a drug product. In cases where only one of a particular type of equipment exists in a manufacturing facility, the name of the equipment may be used in lieu of a distinctive identification number or code.

• Section 211.122(c)—Records must be maintained for each shipment received of each different labeling and packaging material indicating receipt, examination, or testing.

• Section 211.130(e)—Inspection of packaging and labeling facilities must be made immediately before use to assure that all drug products have been removed from previous operations. Inspection must also be made to assure that packaging and labeling materials not suitable for subsequent operations have been removed. Results of inspection must be documented in the batch production records.

• Section 211.132(c)—Certain retail packages of OTC drug products must bear a statement that is prominently placed so consumers are alerted to the specific tamper-evident feature of the package. The labeling statement is required to be so placed that it will be unaffected if the tamper-resistant feature of the package is breached or missing. If the tamper-evident feature chosen is one that uses an identifying characteristic, that characteristic is required to be referred to in the labeling statement.

• Section 211.132(d)—A request for an exemption from packaging and labeling requirements by a manufacturer or packer is required to be submitted in the form of a citizen petition under 21 CFR 10.30.

• Section 211.137—Requirements regarding product expiration dating and compliance with 21 CFR 201.17.

• Section 211.160(a)—The establishment of any specifications, standards, sampling plans, test procedures, or other laboratory control mechanisms, including any change in such specifications, standards, sampling plans, test procedures, or other laboratory control mechanisms, must be drafted by the appropriate organizational unit and reviewed and approved by the quality control unit. These requirements must be followed and documented at the time of performance. Any deviation from the written specifications, standards, sampling plans, test procedures, or other laboratory control mechanisms must be recorded and justified.

• Section 211.165(e)—The accuracy, sensitivity, specificity, and reproducibility of test methods employed by a firm must be established and documented. Such validation and documentation may be accomplished in accordance with § 211.194(a)(2).

• Section 211.166—Stability testing program for drug products.

• Section 211.173—Animals used in testing components, in-process materials, or drug products for compliance with established specifications must be maintained and controlled in a manner that assures their suitability for their intended use. They must be identified, and adequate records must be maintained showing the history of their use.

• Section 211.180(e)—Written records required by part 211 must be maintained so that data can be used for evaluating, at least annually, the quality standards of each drug product to determine the need for changes in drug product specifications or manufacturing or control procedures. Written procedures must be established and followed for such evaluations and must include provisions for a representative number of batches, whether approved or unapproved or rejected, and a review of complaints, recalls, returned or salvaged drug products, and investigations conducted under § 211.192 for each drug product.

• Section 211.180(f)—Procedures must be established to assure that the responsible officials of the firm, if they are not personally involved in or immediately aware of such actions, are notified in writing of any investigations, conducted under § 211.198, § 211.204, or § 211.208, any recalls, reports of inspectional observations issued, or any regulatory actions relating to good manufacturing practices brought by FDA.

• Section 211.182—Specifies requirements for equipment cleaning records and the use log.

• Section 211.184—Specifies requirements for component, drug product container, closure, and labeling records.

• Section 211.186—Specifies master production and control records requirements.

• Section 211.188—Specifies batch production and control records requirement.

• Section 211.192—Specifies the information that must be maintained on the investigation of discrepancies found in the review of all drug product production and control records by the quality control staff.

• Section 211.194—Explains and describes laboratory records that must be retained.

• Section 211.196—Specifies the information that must be included in records on the distribution of the drug.

• Section 211.198—Specifies and describes the handling of all complaint files received by the applicant.

• Section 211.204—Specifies that records be maintained of returned and salvaged drug products and describes the procedures involved.

Written procedures, referred to here as standard operating procedures (SOPs), are required for many part 211 records. Current SOP requirements were initially provided in a final rule published in the Federal Register of September 29, 1978 (43 FR 45014), and are now an integral and familiar part of the drug manufacturing process. The major information collection impact of SOPs results from their creation. Thereafter, SOPs need to be periodically updated. A combined estimate for routine maintenance of SOPs is provided in table 1. The 25 SOP provisions under part 211 in the combined maintenance estimate include:

• Section 211.22(d)—Responsibilities and procedures of the quality control unit;

• Section 211.56(b)—Sanitation procedures;

• Section 211.56(c)—Use of suitable rodenticides, insecticides, fungicides, fumigating agents, and cleaning and sanitizing agents;

• Section 211.67(b)—Cleaning and maintenance of equipment;

• Section 211.68(a)—Proper performance of automatic, mechanical, and electronic equipment;

• Section 211.80(a)—Receipt, identification, storage, handling, sampling, testing, and approval or rejection of components and drug product containers or closures;

• Section 211.94(d)—Standards or specifications, methods of testing, and methods of cleaning, sterilizing, and processing to remove pyrogenic properties for drug product containers and closures;

• Section 211.100(a)—Production and process control;

• Section 211.110(a)—Sampling and testing of in-process materials and drug products;

• Section 211.113(a)—Prevention of objectionable microorganisms in drug products not required to be sterile;

• Section 211.113(b)—Prevention of microbiological contamination of drug products purporting to be sterile, including validation of any sterilization process;

• Section 211.115(a)—System for reprocessing batches that do not conform to standards or specifications to insure that reprocessed batches conform with all established standards, specifications, and characteristics;

• Section 211.122(a)—Receipt, identification, storage, handling, sampling, examination and/or testing of labeling and packaging materials;

• Section 211.125(f)—Control procedures for the issuance of labeling;

• Section 211.130—Packaging and label operations, prevention of mixup and cross contamination, identification and handling of filled drug product containers that are set aside and held in unlabeled condition, and identification of the drug product with a lot or control number that permits determination of the history of the manufacture and control of the batch;

• Section 211.142—Warehousing;

• Section 211.150—Distribution of drug products;

• Section 211.160—Laboratory controls;

• Section 211.165(c)—Testing and release for distribution;

• Section 211.166(a)—Stability testing;

• Section 211.167—Special testing requirements;

• Section 211.180(f)—Notification of responsible officials of investigations, recalls, reports of inspectional observations, and any regulatory actions relating to good manufacturing practice;

• Section 211.198(a)—Written and oral complaint procedures, including quality control unit review of any complaint involving specifications failures, and serious and unexpected adverse drug experiences;

• Section 211.204—Holding, testing, and reprocessing of returned drug products; and

• Section 211.208—Drug product salvaging.

In addition, the following regulations in parts 610 and 680 (21 CFR parts 610 and 680) reference certain CGMP regulations in part 211: §§ 610.12(g), 610.13(a)(2), 610.18(d), 680.2(f), and 680.3(f). In table 1, the burden associated with the information collection requirements in these regulations is included in the burden estimates under §§ 211.165, 211.167, 211.188, and 211.194, as appropriate.

Although most CGMP provisions covered in this document were created many years ago, some existing firms expanding into new manufacturing areas and startup firms will need to create SOPs. As provided in table 1, FDA assumes approximately 50 firms will have to create up to 25 SOPs for a total of 1,250 records, estimating 20 hours per recordkeeper to create 25 new SOPs for a total of 25,000 hours.

In the Federal Register of December 14, 2017 (82 FR 58811) we published a 60-day notice requesting public comment on the proposed collection of information. No comments were received in response to the notice and we therefore retain those burden estimates, which are as follows:

Table 1—Estimated Annual Recordkeeping Burden ¹
21 CFR section/activity | Number of recordkeepers | Number of records per recordkeeper | Total annual records | Average burden per recordkeeping (in hours) ¹ | Total hours
SOP Maintenance | 3,270 |  | 3,270 | 25 | 81,750
New Startup SOPs | 50 | 25 | 1,250 | 20 | 25,000
211.34—Consultants | 3,270 | 0.25 | 818 | 5 | 4,090
211.67(c)—Equipment cleaning and maintenance | 3,270 | 50 | 163,500 | 0.25 (15 minutes) | 40,875
211.68—Changes in master production and control records or other records | 3,270 | 2 | 6,540 | 1 | 6,540
211.68(a)—Automatic, mechanical, and electronic equipment | 3,270 | 10 | 32,700 | 0.5 (30 minutes) | 16,350
211.68(b)—Computer or related systems | 3,270 | 5 | 16,350 | 0.25 (15 minutes) | 4,088
211.72—Filters | 416 | 0.25 | 104 | 1 | 104
211.80(d)—Components and drug product containers or closures | 3,270 | 0.25 | 818 | 0.1 (6 minutes) | 82
211.100(b)—Production and process controls | 3,270 | 3 | 9,810 | 2 | 19,620
211.105(b)—Equipment identification | 3,270 | 0.25 | 818 | 0.25 (15 minutes) | 205
211.122(c)—Labeling and packaging material | 3,270 | 50 | 163,500 | 0.25 (15 minutes) | 40,875
211.130(e)—Labeling and packaging facilities | 3,270 | 50 | 163,500 | 0.25 (15 minutes) | 40,875
211.132(c)—Tamper-evident packaging | 1,613 | 20 | 32,260 | 0.5 (30 minutes) | 16,130
211.132(d)—Tamper-evident packaging | 1,613 | 0.2 | 323 | 0.5 (30 minutes) | 162
211.137—Expiration dating | 3,270 | 5 | 16,350 | 0.5 (30 minutes) | 8,175
211.160(a)—Laboratory controls | 3,270 | 2 | 6,540 | 1 | 6,540
211.165(e)—Test methodology | 3,270 | 1 | 3,270 | 1 | 3,270
211.166—Stability testing | 3,270 | 2 | 6,540 | 0.5 (30 minutes) | 3,270
211.173—Laboratory animals | 33 | 1 | 33 | 0.25 (15 minutes) | 8
211.180(e)—Production, control, and distribution records | 3,270 | 0.2 | 654 | 0.25 (15 minutes) | 164
211.180(f)—Procedures for notification of regulatory actions | 3,270 | 0.2 | 654 | 1 | 654
211.182—Equipment cleaning and use log | 3,270 | 2 | 6,540 | 0.25 (15 minutes) | 1,635
211.184—Component, drug product container, closure, and labeling records | 3,270 | 3 | 9,810 | 0.5 (30 minutes) | 4,905
211.186—Master production and control records | 3,270 | 10 | 32,700 | 2 | 65,400
211.188—Batch production and control records | 3,270 | 25 | 81,750 | 2 | 163,500
211.192—Discrepancies in drug product production and control records | 3,270 | 2 | 6,540 | 1 | 6,540
211.194—Laboratory records | 3,270 | 25 | 81,750 | 0.5 (30 minutes) | 40,875
211.196—Distribution records | 3,270 | 25 | 81,750 | 0.25 (15 minutes) | 20,438
211.198—Compliant files | 3,270 | 5 | 16,350 | 1 | 16,350
211.204—Returned drug products | 3,270 | 10 | 32,700 | 0.5 (30 minutes) | 16,350
Total |  |  |  |  | 651,139
¹ Burden estimates of less than 1 hour are expressed as a fraction of an hour in the format “[number of minutes per response]/60”.

The recordkeeping requirement estimates provided in table 2 are specific to medical gases. In particular, on June 29, 2017, FDA published a Notice of Availability (NOA) in the Federal Register regarding revised draft guidance for industry entitled “Current Good Manufacturing Practice for Medical Gases” (82 FR 29565). This guidance, when finalized, is intended to help medical gas manufacturers comply with applicable CGMP regulations found in parts 210 and 211. In the NOA for the revised draft guidance, FDA noted the guidance includes information collection provisions subject to review by the OMB under the PRA and, in accordance with the PRA, before publication of the final guidance, FDA intends to solicit public comment and obtain OMB approval for any recommended new information collections or material modifications to previously approved collections of information found in FDA regulations. This notice is intended to solicit such public comment.

The regulations addressed in table 2 are the same as those listed in table 1, but the estimated information collection burden differs and is specific to medical gas manufacturing.

FDA estimates the burden of this collection of information as follows:

Table 2—Estimated Annual Recordkeeping Burden
[Medical Gases] ¹
21 CFR section/activity | Number of recordkeepers | Number of records per recordkeeper | Total annual records | Average burden per recordkeeping (in hours) ¹ | Total hours
SOP Maintenance | 2,284 | 0.65 | 1,485 | 25 | 37,125
New startup SOPs | 100 | 25 | 2,500 | 20 | 50,000
211.34—Consultants | 2,284 | 0.25 | 571 | 0.5 (30 minutes) | 286
211.67(c)—Equipment cleaning and maintenance | 2,284 | 32.5 | 74,230 | 0.25 (15 minutes) | 18,558
211.68—Changes in master production and control records or other records | 2,284 | 2 | 4,568 | 1 | 4,568
211.68(a)—Automatic, mechanical, and electronic equipment | 2,284 | 10 | 22,840 | 0.5 (30 minutes) | 11,420
211.68(b)—Computer or related systems | 2,284 | 5 | 11,420 | 0.25 (15 minutes) | 2,855
211.72—Filters | 2,284 | .25 | 571 | 1 | 571
211.80(d)—Components and drug product containers or closures | 2,284 | 0.25 | 571 | 0.1 (6 minutes) | 57
211.100(b)—Production and process controls | 2,284 | 3 | 6,382 | 2 | 13,704
211.105(b)—Equipment identification | 2,284 | 0.25 | 571 | 0.25 (15 minutes) | 143
211.122(c)—Labeling and packaging material | 2,284 | 50 | 114,200 | 0.25 (15 minutes) | 28,550
211.130(e)—Labeling and packaging facilities | 2,284 | 50 | 114,200 | 0.25 (15 minutes) | 28,550
211.132(c)—Tamper-evident packaging | 2,284 | 20 | 45,680 | 0.5 (30 minutes) | 22,840
211.132(d)—Tamper-evident packaging | 2,284 | .2 | 457 | 0.5 (30 minutes) | 229
211.137—Expiration dating | 2,284 | 3.25 | 7,423 | 0.33 (20 minutes) | 2,450
211.160(a)—Laboratory controls | 2,284 | 2 | 4,568 | 1 | 4,568
211.165(e)—Test methodology | 2,284 | 1 | 2,284 | 1 | 2,284
211.166—Stability testing | 2,284 | 1.3 | 2,969 | 0.33 (20 minutes) | 980
211.173—Laboratory animals | 2,284 | 1 | 2,284 | 0.25 (15 minutes) | 571
211.180(e)—Production, control, and distribution records | 2,284 | 0.2 | 457 | 0.25 (15 minutes) | 114
211.180(f)—Procedures for notification of regulatory actions | 2,284 | 0.2 | 457 | 1 | 457
211.182—Equipment cleaning and use log | 2,284 | 1.3 | 2,969 | 0.16 (10 minutes) | 475
211.184—Component, drug product container, closure, and labeling records | 2,284 | 1.95 | 4,454 | 0.33 (20 minutes) | 1,470
211.186—Master production and control records | 2,284 | 10 | 22,840 | 2 | 45,680
211.188—Batch production and control records | 2,284 | 16.25 | 37,115 | 1.3 | 48,250
211.192—Discrepancies in drug product production and control records | 2,284 | 2 | 4,568 | 1 | 4,568
211.194—Laboratory records | 2,284 | 25 | 57,100 | 0.5 (30 minutes) | 28,550
211.196—Distribution records | 2,284 | 25 | 57,100 | 0.25 (15 minutes) | 14,275
211.198—Complaint files | 2,284 | 5 | 11,420 | 1 | 11,420
211.204—Returned drug products | 2,284 | 10 | 22,840 | 0.5 (30 minutes) | 11,420
Total |  |  |  |  | 396,988
¹ Burden estimates of less than 1 hour are expressed as a fraction of an hour in the format “[number of minutes per response]/60”.

The information collection reflects an increase in the number of respondents that results in a corresponding increase to the number of annual burden hours. This is consistent with our experience with the information collection.

Dated: April 2, 2018.
Leslie Kux,
Associate Commissioner for Policy.

[FR Doc. 2018-07031 Filed 4-5-18; 8:45 am]

BILLING CODE 4164-01-P